DEPARTMENT OF JUSTICE

Notice of Lodging of Consent Decree Pursuant to Oil Pollution Act

Notice is hereby given that on September 30, 2004, a proposed consent decree in United States v. France Shipmanagement S.A., Civil Action No. 04-cv-048-7-JHR-JBR, was lodged with the United States District Court for the District of New Jersey.

The proposed consent decree will settle the United States' claims for natural resource damages under the Oil Pollution Act, 33 U.S.C. 2701, et seq., on behalf of the National Oceanic and Atmospheric Administration (“NOAA”) and the Department of the Interior (“DOI”) (together, the “Federal Trustees”) against France Shipmanagement S.A. relating to an oil spill from the tank vessel Anitra, which occurred in May 1996 in the Big Stone Anchorage of the Delaware Bay. Pursuant to the proposed consent decree, France Shipmanagement S.A. will pay $1,500,000.00 as natural resource damages to the Federal Trustees and to the State of New Jersey's Department of Environmental Protection (together, the “Trustees”). Of that amount, approximately $237,000 has been, or will be, paid to the Trustees for reimbursement of their assessment costs. The remaining approximately $1,273,000.00 will be utilized by the Trustees for restoration projects.

The Department of Justice will receive for a period of thirty (30) days from the date of this publication comments relating to the proposed consent decree. Comments should be addressed to the Assistant Attorney General of the Environment and Natural Resources Division, Department of Justice, Washington, DC 20530, and should refer to United States, et al., v. France Shipmanagement S.A., Civil Action No. 04-cv-04807-JHR-JBR, D.J. Ref. 90-5-1-1-4380.

The proposed consent decree may be examined at the Office of the United States Attorney, District of New Jersey, 970 Broad Street, Newark, New Jersey 07102. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree, please so note and enclose a check in the amount of $16.75 (25 cent per page reproduction cost) payable to the U.S. Treasury.

Ronald Gluck,
Assistant Chief, Environmental Enforcement Section, Environment and Natural Resources Division.

[FR Doc. 04-23100 Filed 10-13-04; 8:45 am]

BILLING CODE 4410-15-M